CONSUMER PRODUCT SAFETY COMMISSION

Sunshine Act Meeting

TIME AND DATE: Wednesday, May 19, 2021; 10:00-11:00 a.m.

PLACE: Due to the COVID-19 Pandemic, the meeting will be held remotely.

STATUS: Commission Meeting—Open to the Public.

MATTERS TO BE CONSIDERED: Briefing Matter: Final Rule: Safety Standard for Infant Sleep Products.

All attendees should register for the Webinar. To register for the Webinar, please visit https://attendee.gotowebinar.com/register/3371041493042213903 and fill in the information. After registering you will receive a confirmation email containing information about joining the webinar.

Dated: May 12, 2021.
Alberta E. Mills,
Commission Secretary.

[FR Doc. 2021-10359 Filed 5-12-21; 4:15 pm]

BILLING CODE 6355-01-P